SOCIAL SECURITY ADMINISTRATION

[Docket No. SSA-2007-0086]

Social Security Claims Data Exchange Announcement

AGENCY: Social Security Administration.

ACTION: Notice of Invitation to Social Security Benefits Service Providers for Web Service Beta Test.

SUMMARY: The Social Security Administration (SSA) is pleased to announce that, in 2008; the agency will develop and implement a Beta test of a web service which will allow the submission of Initial-level claims, including Disability applications and Adult Disability Reports, from companies who assist the public with filing for benefits.

In 2008, SSA plans to develop the web service to initially collect data on the Internet Social Security Benefit Application and Disability Report. Note that when a third party submits an application, SSA must contact the claimant before it is considered valid. In the initial phase, organizations will be able to submit claims data in bulk and receive a confirmation of receipt of the submitted data. In subsequent phases, the systems interface will also include the ability for organizations to check on the status of previously submitted claims information.

SSA would like to extend an invitation to companies who assist individuals with their Social Security benefit applications, to participate in this web service claims data exchange Beta test. The Beta test is structured to use the “consolidator” model, where the participating company serves as a conduit to receive claims data from their client base and electronically transfer the data to SSA.

After the initial disability claims data collection effort in 2008 is evaluated, SSA will add functional capabilities in future years to collect data on electronic appeal forms and integrated claims applications. This multi-year initiative will provide a comprehensive systems interface for companies to send claims data (including Title II Retirement and Spouse application data, disability data, and medical evidence) to SSA on behalf of their clients. The envisioned long-range solution beyond 2008 is a web service that will facilitate the collection of data through the entire life-cycle of Internet applications, including Title II and Title XVI initial claims and appeals.

DATES: Companies which are interested in participating in this web service beta test and meet the criteria should send an e-mail to Claims.Data.Transfer@ssa.gov by November 8, 2007. Upon receipt of your e-mail we will invite you to a teleconference that is planned for November 15, 2007 to discuss any questions that you may have. Please note that prior to the teleconference all companies will be expected to sign a participation agreement attesting that the selection criteria is met. Reference Web Service Beta Test in the subject field of your e-mail and include the following information: Contact name, mailing address, phone and facsimile numbers, and e-mail address.

FOR FURTHER INFORMATION CONTACT: Tammy Joyner, 410-966-2838.

SUPPLEMENTARY INFORMATION:

Basic Functionality

SSA is interested in expanding the relationship with businesses by allowing the submission of claims-related data to SSA for multiple applicants using standardized data exchange protocols. SSA would like to leverage the data that businesses may already have in their records, without requiring the labor-intensive process of keying information into a web interface one claim at a time.

Technical Information

The Social Security Benefits Data Web Service will be a J2EE application which uses Simple Object Access Protocol (SOAP) and Web Services Description Language (WSDL) specifications. The secure offering adheres to Version 1.0 of the Web Services-Interoperability Organization (WS-I) Basic Profile. SOAP message integrity will be ensured by following Web Services Security Version 1.0 standards. Because of this approach to standardization, Third Party Bulk Claims Providers can program in their environment of choice (e.g., Java, Visual Studio, .NET, and Perl) to invoke the service and feel confident that their claims data submissions will not be compromised upon delivery to SSA. The Web Service will be integrated into SSA's existing Secure Web Services Architecture which requires the WS-Security Username Token Profile and Digital Signature standards.

The claims data Web service will accept XML file format as input, and these files may be optionally compressed. Files may be attached to the message using the SOAP Message Transmission Optimization Mechanism, or they may be transmitted inline as base64 encoded data.

Throughout 2008, SSA will be finalizing this Social Security Benefits Data Web Service offering and allowing businesses to participate in planned Beta tests. The WSDL which is required to invoke the service will be made available to the public next year with a developer's guide to follow shortly thereafter. The participating businesses will need to register with SSA to obtain a Secure Web Service Integrated Registration Services (IRES) PIN/password and are prepared to support the Beta test period.

Tentative key dates for the Social Security Benefits Data Web Service are:

Design and Development (November 2007-July 2008).

Validation and Integration (July 2008-December 2008).

Beta Implementation of Internet Social Security Benefit Application data (September 2008).

Beta Implementation of Internet Disability Report data (December 2008).

Businesses must meet the following criteria in order to participate in this Beta Test:

1. Companies must have the current capability to write their own claims software, user guide and documentation.

2. Companies must have the current capability to electronically submit Initial-level disability claims to SSA for processing or provide the ability for their customers to equally do so.

3. Companies must have the ability to modify their claims submission environment in time to participate in testing with SSA beginning July 2008.

Participating organizations must also adhere to SSA's policies, procedures and laws relative, but not limited to: Disclaimers, liability, security, integrity, privacy, entitlement factors, and benefit eligibility. The sole intention is to provide a facilitating web service to meet client demands. SSA retains the right to deny electronic delivery of claims data without confirmation of a valid electronic receipt. SSA reserves the right to deny and/or terminate testing and/or any agreements.

This is not a request for proposal and the Government does not intend to pay for information submitted. Nothing in this announcement or a contractor's subsequent participation in this Web service beta test shall be construed as obligating the Government to incur any participating company's costs in developing the web service.

Dated: October 31, 2007.
Michael J. Astrue,
Commissioner of Social Security.

[FR Doc. E7-21844 Filed 11-5-07; 8:45 am]

BILLING CODE 4191-02-P